DEPARTMENT OF TRANSPORTATION

Federal Railroad Administration

Agency Request for Emergency Processing of Collection of Information by the Office of Management and Budget

AGENCY: Federal Railroad Administration (FRA), Department of Transportation (DOT).

ACTION: Notice.

SUMMARY: FRA hereby gives notice that it has submitted the following information collection request (ICR) to the Office of Management and Budget (OMB) for emergency processing under the Paperwork Reduction Act of 1995 (Pub. L. 104-13, 44 U.S.C. Chapter 35). FRA requests that OMB authorize the collection of information identified below on or before October 31, 2005, for a period of 180 days after the date of issuance of this notice in the Federal Register. A copy of this individual ICR, with applicable supporting documentation, may be obtained by calling FRA's clearance officers, Robert Brogan (telephone number (202) 493-6292) or Victor Angelo (telephone number (202) 493-6470; these numbers are not toll-free), or by contacting Mr. Brogan via facsimile at (202) 493-6270 or Mr. Angelo via facsimile at (202) 493-6170, or via e-mail by contacting Mr. Brogan at robert.brogan@fra.dot.gov. or by contacting Mr. Angelo at victor.angelo@fra.dot.gov. Comments and questions about the ICR identified below should be directed to the Office of Information and Regulatory Affairs, Attn: OMB Desk Officer for FRA.

Title: FRA Emergency Order No. 24, Notice No. 1.

Reporting Burden
Emergency order item No. | Respondent universe | Total annual responses | Average time per response | Total annual burden hours | Total annual burden cost
(1)—Instruction On Railroad Operating Rule—Operation of manual main track in non-signal territory | 685 Railroads; 100,000 employees | 100,000 instruction sessions | 60 minutes | 100,000 | $4,700,000.
—Instruction Records | 685 Railroads | 100,000 records | 2 minutes | 3,333 | 126,654.
(2) Hand-Operated Main Track Switches—Confirmation of Switch Position | 6,000 Dispatchers | 60,000 verbal confirmations | 30 seconds | 500 | 20,500.
—Review of SPAF by Train Dispatcher | 6,000 Dispatchers | 15,000 reviews | 10 seconds | 42 | 1,974.
(3) Switch Position Awareness Form (SPAF) | 100,000 employees | 20,000 forms | 3 minutes | 1,000 | 47,000.
(4) Job Briefings | 100,000 employees | 60,000 briefings | 1 minute | 1,000 | 47,000.
(5) Radio Communication—Crewmember communication with engineer | 100,000 employees | 60,000 verbal communications | 15 seconds | 250 | 11,750.
—Notation of Inoperable Radio on SPAF | 900,000 Crew members | 500 form entries | 5 seconds | 3 | 141.
(6) Operational Tests and Inspections | 685 Railroads | Burden Covered Under OMB No. 2130-0035 | Burden Covered Under OMB No. 2130-0035 | Burden Covered Under OMB No. 2130-0035 | Burden Covered Under OMB No. 2130-0035.
(7) Distribution of Emergency Order—Copies to Employees | 685 Railroads; 100,000 Employees | 100,000 copies | 2 seconds | 56 | 2,128.
—Written Receipt and Acknowledgment of Copy | 685 Railroads; 100,000 Employees | 100,000 receipts + 100,000 records | 1 second + 1 second | 56 | 2,380.
(8) Relief—Petitions For Special Approval | 685 Railroads | 10 petitions | 60 minutes | 10 | 380.

Form Number(s): N/A.

Respondent Universe: 685 Railroads; 100,000 Railroad Employees.

Frequency of Submission: One-time; On occasion.

Total Responses: 715,510.

Total Annual Estimated Burden: 106,250 hours.

Status: Emergency Review.

Description: FRA has determined that public safety compels the issuance of Emergency Order No. 24 and necessitates this collection of information in order that railroads modify their operating rules and take certain other actions necessary to ensure that their employees who operate hand-operated main track switches in non-signaled territory restore the switches to their proper (normal) position after use. The Emergency Order is intended to reduce the risk of serious injury or death both to railroad employees and the general public.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on October 19, 2005.
Belinda Ashton,
Acting Director, Office of Budget, Federal Railroad Administration.

[FR Doc. 05-21250 Filed 10-21-05; 8:45 am]

BILLING CODE 4910-06-P